DEPARTMENT OF HEALTH AND HUMAN SERVICES

Administration for Children and Families

Proposed Information Collection Activity; Comment Request

Proposed Projects:

Title: Federal Parent Locator Service.

OMB No. 0970-0142.

Description: State and local child support enforcement agencies may request the Federal Parent Locator Service (FPLS) to assist in locating parents in order to establish or enforce child support. The FPLS serves as a conduit between child support enforcement offices and Federal and state agencies by conducting weekly, biweekly, or monthly matches of the collected information with various agencies and distributing the information back to the requesting state or local child support office.

Respondents: State and local IV-D child support offices.

Annual Burden Estimates
Instrument | Number of respondents | Number of responses per respondent | Average burden hours per response | Total burden hours
FPLS submissions | 5 | 24 | 1 | 120
Estimated Total Annual Burden Hours |  |  |  | 120

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 16, 2002.
Robert Sargis,
Reports Clearance Officer.

[FR Doc. 02-32183 Filed 12-20-02; 8:45 am]

BILLING CODE 4184-01-M